DEPARTMENT OF AGRICULTURE

Animal and Plant Health Inspection Service

[Docket No. APHIS-2019-0002]

Notice of Availability of an Environmental Assessment and Finding of No Significant Impact for the Release of Aphalara itadori for the Biological Control of Japanese, Giant, and Bohemian Knotweeds

AGENCY: Animal and Plant Health Inspection Service, USDA.

ACTION: Notice of availability.

SUMMARY: We are advising the public that we have prepared a final environmental assessment and finding of no significant impact relative to the release of Aphalara itadori for the biological control of Japanese, Giant, and Bohemian knotweeds (Fallopia japonica, F. sachalinensis, and F. x bohemica), significant invasive weeds, within the contiguous United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2327; email: Colin.Stewart@usda.gov.

SUPPLEMENTARY INFORMATION: Invasive knotweeds in North America are a complex of three closely related species in the family Polygonaceae that were introduced from Japan during the late 19th century. They include Fallopia japonica (Japanese knotweed), F. sachalinensis (Giant knotweed), and the hybrid between the two, F. x bohemica (Bohemian knotweed). These large herbaceous perennials have spread throughout much of North America, with the greatest infestations in the Pacific Northwest, the northeast of the United States, and eastern Canada. While capable of growing in diverse habitats, the knotweeds have become especially problematic along the banks and floodplains of rivers and streams, where they crowd out native plants and potentially affect stream nutrients and food webs. While several States have active control programs against knotweeds, the inaccessibility of some of the infestations and the difficulty with which the plants are killed suggest that complete eradication of knotweeds within the United States is unlikely.

The Hokkaido and Kyushu biotypes of the insect, Aphalara itadori, were chosen as potential biological control organisms. The biotypes are expected to reduce the severity of infestations of Japanese, Giant, and Bohemian knotweed, and are known to be highly host specific due to their intimate relationship with their host plants.

On May 28, 2019, we published in the Federal Register (84 FR 24463-24464, Docket No. APHIS-2019-0002) a notice ¹ in which we announced the availability, for public review and comment, of an environmental assessment (EA) that examined the potential environmental impacts associated with the release of Aphalara itadori for the biological control of Japanese, Giant, and Bohemian knotweed within the contiguous United States. Comments on the notice were required to be received on or before June 27, 2019; however, we reopened the comment period for an additional 60 days ending August 26, 2019 in a subsequent notice (84 FR 37825-37826, Docket No. APHIS-2019-0002). We received 300 comments by that date. Our responses to the comments are included in the final EA.

¹ To view the notice, supporting document, and the comments we received, go to http://www.regulations.gov/#!docketDetail;D=APHIS-2019-0002.

In this document, we are advising the public of our finding of no significant impact (FONSI) regarding the release of Aphalara itadori for the biological control of Japanese, Giant, and Bohemian knotweeds (F. japonica, F. sachalinensis, and F. x bohemica) within the contiguous United States. The finding, which is based on the EA, reflects our determination that release of Aphalara itadori for the biological control of Japanese, Giant, and Bohemian knotweeds (F. japonica, F. sachalinensis, and F. x bohemica) will not have a significant impact on the quality of the human environment. Concurrent with this announcement, we will issue a permit for the release of Aphalara itadori for the biological control of Japanese, Giant, and Bohemian knotweeds (F. japonica, F. sachalinensis, and F. x bohemica).

The EA and FONSI may be viewed on the Regulations.gov website (see footnote 1). Copies of the EA and FONSI are also available for public inspection at USDA, room 1620, South Building, 14th Street and Independence Avenue SW, Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) Animal and Plant Health Inspection Service's NEPA Implementing Procedures (7 CFR part 372).

Done in Washington, DC, this 23rd day of November 2020.
Mark Davidson,
Acting Administrator, Animal and Plant Health Inspection Service.

[FR Doc. 2020-26290 Filed 11-27-20; 8:45 am]

BILLING CODE 3410-34-P